NUCLEAR REGULATORY COMMISSION

Advisory Committee on Reactor Safeguards (ACRS) Subcommittee Meeting on Thermal-Hydraulic Phenomena; Revised

The ACRS Subcommittee meeting on Thermal-Hydraulic Phenomena scheduled for April 19-20, 2007 has been rescheduled to May 23-24, 2007 at 8:30 a.m. in Room T-2B3, at 11545 Rockville Pike, Rockville, Maryland.

The entire meeting will be open to public attendance, with the exception of portions that may be closed to discuss General Electric proprietary information pursuant to 5 U.S.C. 552b( c)(4).

The Subcommittee will review the staff evaluation of the MELLLA+, GE Methods, and GE DSS-CD Topical Reports. The Subcommittee will gather information, analyze relevant issues and facts, and formulate proposed positions and actions, as appropriate, for deliberation by the full Committee.

Notice of this meeting was published in the Federal Register on Tuesday, April 3, 2007, (72 FR 15914). All other items pertaining to this meeting remain the same as previously published.

For further information contact: Mr. Ralph Caruso, Senior Staff Engineer (telephone 301-415-8065 or e-mail: rxc@nrc.gov) between 7:30 a.m. and 4:15 p.m. (ET).

Dated: April 12, 2007.
Cayetano Santos,
Acting Branch Chief, ACRS.

[FR Doc. E7-7369 Filed 4-17-07; 8:45 am]

BILLING CODE 7590-01-P